DEPARTMENT OF COMMERCE

International Trade Administration

[C-570-140]

Mobile Access Equipment and Subassemblies Thereof From the People's Republic of China: Preliminary Results and Rescission, in Part, of the Countervailing Duty Administrative Review; 2022

AGENCY: Enforcement and Compliance, International Trade Administration, Department of Commerce.

SUMMARY: The U.S. Department of Commerce (Commerce) preliminarily finds that countervailable subsidies were provided to Zhejiang Dingli Machinery Co., Ltd. (Dingli), and its cross-owned affiliates, a producer and exporter of mobile access equipment and subassemblies thereof (mobile access equipment) from the People's Republic of China (China). The period of review (POR) is January 1, 2022, through December 31, 2022. In addition, Commerce is rescinding this review, in part, with respect to 31 companies. Interested parties are invited to comment on these preliminary results.

DATES: Applicable April 11, 2025.

FOR FURTHER INFORMATION CONTACT: Paul Senoyuit, AD/CVD Operations, Office II, Enforcement and Compliance, International Trade Administration, U.S. Department of Commerce, 1401 Constitution Avenue NW, Washington, DC 20230; telephone: (202) 482-6106.

SUPPLEMENTARY INFORMATION:

Background

On February 8, 2024, based on timely requests for review, Commerce published a notice of initiation of an administrative review of the countervailing duty order ¹ on mobile access equipment from China with respect to 32 companies.² On April 9, 2024, we selected Dingli as the mandatory respondent in this review.³ On July 22, 2024, Commerce tolled certain deadlines in this administrative proceeding by seven days.⁴ On August 20, 2024, Commerce extended the deadline for issuing these preliminary results by 117 days, in accordance with section 751(a)(3)(A) of the Tariff Act of 1930, as amended (the Act).⁵ On December 9, 2024, Commerce tolled certain deadlines in this administrative review by 90 days.⁶ On April 3, 2025, Commerce extended the deadline for issuing these preliminary results by three days. The deadline for these preliminary results is now April 7, 2025.⁷

¹ See Certain Mobile Access Equipment and Subassemblies Thereof from the People's Republic of China: Countervailing Duty Order and Amended Final Affirmative Countervailing Duty Determination, 86 FR 70439 (December 10, 2021) (Order).

² See Initiation of Antidumping and Countervailing Duty Administrative Reviews, 89 FR 8641 (February 8, 2024).

³ See Memorandum, “Respondent Selection,” dated April 9, 2024.

⁴ See Memorandum, “Tolling of Deadlines for Antidumping and Countervailing Duty Proceedings,” dated July 22, 2024.

⁵ See Memorandum, “Extension of Deadline for Preliminary Results of Countervailing Duty Administrative Review,” dated August 20, 2024.

⁶ See Memorandum, “Tolling of Deadlines for Antidumping and Countervailing Duty Proceedings,” dated December 9, 2024.

⁷ See Memorandum, “Extension of Deadline for Preliminary Results of Countervailing Duty Administrative Review,” dated April 3, 2025.

For a complete description of the events that followed the initiation of this review, see the Preliminary Decision Memorandum.⁸ A list of topics discussed in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁸ See Memorandum, “Decision Memorandum for the Preliminary Results of the Countervailing Duty Administrative Review of Mobile Access Equipment and Subassemblies Thereof from the People's Republic of China; 2022,” dated concurrently with, and hereby adopted by, this notice (Preliminary Decision Memorandum).

Scope of the Order

The products covered by the Order are mobile access equipment from China. For a complete description of the scope of the Order, see the Preliminary Decision Memorandum.

Rescission of Administrative Review, In Part

In accordance with 19 CFR 351.213(d)(1), Commerce will rescind an administrative review, in whole or in part, if all parties that requested the review withdraw their requests within 90 days of the date of publication of the notice of initiation of the requested review. Commerce received a timely-filed withdrawal request with respect to 31 companies, pursuant to 19 CFR 351.213(d)(1). Because the withdrawal request was timely filed, and no other parties requested a review of these companies, in accordance with 19 CFR 351.213(d)(1), Commerce is rescinding this review of the Order with respect to these 31 companies. For a list of these companies, see Appendix II.

Methodology

Commerce is conducting this review in accordance with section 751(a)(1)(A) of the Act. For each of the subsidy programs found countervailable, we preliminarily find that there is a subsidy, i.e., a financial contribution by an “authority” that gives rise to a benefit to the recipient, and that the subsidy is specific.⁹ For a full description of the methodology underlying our conclusions, including our reliance, in part, on facts otherwise available with adverse inferences pursuant to sections 776(a) and (b) of the Act, see the Preliminary Decision Memorandum.

⁹ See sections 771(5)(B) and (D) of the Act regarding financial contribution; section 771(5)(E) of the Act regarding benefit; and section 771(5A) of the Act regarding specificity.

Preliminary Results of Review

As a result of this review, we preliminarily find that the following net subsidy rate exists for the POR, January 1, 2022, through December 31, 2022:

Company | Subsidy rate (percent ad valorem)
Zhejiang Dingli Machinery Co. Ltd.; Zhejiang Green Power Machinery Co., Ltd.; Zhejiang Shengda Fenghe Automotive Equipment Co., Ltd.; Zhejiang Xieheng Intelligent Equipment Co., Ltd.¹⁰ | 79.33

Disclosure

¹⁰ 10 As discussed in the Preliminary Decision Memorandum, Commerce has found the following companies to be cross owned with Dingli: Zhejiang Green Power Machinery Co., Ltd.; Zhejiang Shengda Fenghe Automotive Equipment Co., Ltd.; and Zhejiang Xieheng Intelligent Equipment Co., Ltd.

Commerce intends to disclose its calculations and analysis performed to interested parties for these preliminary results within five days of any public announcement or, if there is no public announcement, within five days of the date of publication of this notice in accordance with 19 CFR 351.224(b).

Public Comment

Case briefs or other written comments may be submitted to the Assistant Secretary for Enforcement and Compliance. Pursuant to 19 CFR 351.309(c)(1)(ii), we have modified the deadline for interested parties to submit case briefs to Commerce to no later than 21 days after the date of the publication of this notice.¹¹ Rebuttal briefs, limited to issues raised in the case briefs, may be filed not later than five days after the date for filing case briefs.¹² Parties who submit case briefs or rebuttal briefs in this proceeding are encouraged to submit with each argument: (1) a statement of the issue; and (2) a table of authorities.¹³ All briefs must be filed electronically using ACCESS. An electronically filed document must be received successfully in its entirety in ACCESS by 5:00 p.m. Eastern Time on the established deadline.

¹¹ See 19 CFR 351.309.

¹² See 19 CFR 351.309(d); see also Administrative Protective Order, Service, and Other Procedures in Antidumping and Countervailing Duty Proceedings, 88 FR 67069, 67077 (September 29, 2023) (APO and Service Final Rule).

¹³ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹⁴ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁵

¹⁴ We use the term “issue” here to describe an argument that Commerce would normally address in a comment of the Issues and Decision Memorandum.

¹⁵ See APO and Final Service Rule.

Pursuant to 19 CFR 351.310(c), interested parties who wish to request a hearing must submit a written request to the Assistant Secretary for Enforcement and Compliance, U.S. Department of Commerce within 30 days after the date of publication of this notice. Requests should contain: (1) the party's name, address, and telephone number; (2) the number of participants; and (3) a list of issues to be discussed. Oral presentations at the hearing will be limited to issues raised in the briefs. If a request for a hearing is made, Commerce will inform parties of the scheduled date for the hearing.¹⁶

¹⁶ See 19 CFR 351.310(d).

Assessment Rates

Consistent with section 751(a)(1) of the Act and 19 CFR 351.212(b)(2), upon issuance of the final results, Commerce shall determine, and U.S. Customs and Border Protection (CBP) shall assess, countervailing duties on all appropriate entries covered by this review.

For the companies listed in Appendix II for which the review is being rescinded, Commerce will instruct CBP to assess countervailing duties on all appropriate entries at a rate equal to the cash deposit of estimated countervailing duties required at the time of entry, or withdrawal from warehouse, for consumption, during the period January 1, 2022, through December 31, 2022, in accordance with 19 CFR 351.212(c)(1)(i). Commerce intends to issue rescission instructions to CBP no earlier than 35 days after the date of publication of this notice of rescission, in part, in the Federal Register.

Commerce intends to issue assessment instructions to CBP regarding Dingli, no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Pursuant to section 751(a)(2)(C) of the Act, Commerce intends to instruct CBP to collect cash deposits of estimated countervailing duties in the amounts shown for the company listed above on shipments of subject merchandise entered, or withdrawn from warehouse, for consumption on or after the date of publication of the final results of this review. These cash deposit instructions, when imposed, shall remain in effect until further notice.

Final Results of Review

Unless the deadline is extended, we intend to issue the final results of this administrative review, which will include the results of our analysis of the issues raised in the case briefs, within 120 days of publication of these preliminary results in the Federal Register, pursuant to section 751(a)(3)(A) of the Act.

Notification to Interested Parties

We are issuing and publishing these preliminary results in accordance with sections 751(a)(1) and 777(i)(1) of the Act, and 19 CFR 351.221(b)(4).

Dated: April 7, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Period of Review

IV. Scope of the Order

V. Diversification of China's Economy

VI. Use of Facts Otherwise Available and Adverse Inferences

VII. Subsidies Valuation Information

VIII. Benchmarks

IX. Analysis of Programs

X. Recommendation

Appendix II

Companies for Which the Review Is Being Rescinded

1. Lingong Group Jinan Heavy Machinery Co., Ltd.

2. Hunan Sinoboom Intelligent Equipment Co., Ltd.

3. Mantall Heavy Industry Co., Ltd.

4. Noblelift Intelligent Equipment Co., Ltd.

5. Sany Marine Heavy Industry Co., Ltd.

6. Xuzhou Construction Machinery Group Imp. & Exp. Co., Ltd.

7. Xuzhou Construction Machinery Group FireFighting Safety Equipment Co., Ltd.

8. Guangxi LiuGong Machinery Co., Ltd.

9. Deqing Liguan Machinery Trading Co. Ltd.

10. Oshkosh JLG (Tianjin) Equipment Technology Co., Ltd.

11. Terex (Changzhou) Machinery Co., Ltd.

12. Anhui Heli Industrial Vehicle Imp. & Exp. Co., Ltd.

13. Changzhou Hengxuan Logistics Co., Ltd.

14. Crown Equipment (Suzhou) Co., Ltd.

15. Dongguan Tinbo Packing Industrial Co., Ltd.

16. Guangzhou Eounice Machinery Co., Ltd.

17. Hangzhou Hengli Metal Processing Co., Ltd.

18. Jiaxing Xinfeng Zhong Wang Hydrualic Pressure Accessory Factory

19. Leader Technology Co., Ltd

20. Everocean International Forwarding Co., Ltd.

21. Shandong Tavol Machinery Co., Ltd.

22. Shanghai Full Trans Global Forwarding Co., Ltd.

23. Shanghai Inter Cooperation Co., Ltd.

24. Shanghai Xiangcheng Trading Co., Ltd.

25. Shanghai Xindun Trade Co., Ltd.

26. Shenzhen Shining Ocean International Logistics Co., Ltd.

27. Wuhai Huadong Heavy Industry Foundry Co., Ltd.

28. Yantai Carhart Manufacturing Co., Ltd.

29. Zhejiang Smile Tools Co., Ltd.

30. Zoomlion Heavy Industry Science & Technology Co., Ltd.

31. Skyjack Inc.

[FR Doc. 2025-06234 Filed 4-10-25; 8:45 am]

BILLING CODE 3510-DS-P